ENVIRONMENTAL PROTECTION AGENCY

[EPA-HQ-OAR-2007-1121; FRL-9988-33-OEI]

Information Collection Request Submitted to OMB for Review and Approval; Comment Request; Diesel Fuel Regulations (40 CFR Part 80, Subpart I) (Renewal)

AGENCY: Environmental Protection Agency (EPA).

ACTION: Notice.

SUMMARY: The Environmental Protection Agency (EPA) has submitted an information collection request (ICR), Diesel Fuel Regulations (EPA ICR Number 1718.11, OMB Control Number 2060-0308), to the Office of Management and Budget (OMB) for review and approval in accordance with the Paperwork Reduction Act. This is a proposed extension of the ICR, which is currently approved through March 31, 2019. Public comments were previously requested via the Federal Register on September 4, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 22, 2019.

ADDRESSES: Submit your comments, referencing Docket ID No. EPA-HQ-OAR-2007-1121, to (1) EPA online using www.regulations.gov (our preferred method), by email to a-and-r-docket@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: James W. Caldwell, Compliance Division, Office of Transportation and Air Quality, 6405A, Environmental Protection Agency, 1200 Pennsylvania Ave. NW, Washington, DC 20460; telephone number: 202-343-9303; fax number: 202-343-2802; email address: caldwell.jim@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR renewal is related to EPA's diesel fuel regulations under 40 CFR part 80, subpart I, applicable to highway (motor vehicle) diesel fuel and non-road, locomotive and marine diesel fuel (NRLM), Emission Control Area (ECA) marine fuel, and heating oil. Most of the information collected under this ICR is used to evaluate compliance with the requirements of the regulations. Motor vehicle diesel fuel and just about all NRLM diesel fuel now meet a 15 part per million sulfur standard. The activities associated with this ICR include: Registration (new refiners and importers, updates to existing registrations); submission of corrections to prior compliance reports; granting of research and development exemptions; generation and retention of quality assurance records; general recordkeeping; batch testing for sulfur content; and the production of product transfer documents and pump labels.

Form Numbers:

DSF0100 Form: Diesel Fuel Sulfur Credit Banking & Generation Report

DSF0200 Form: Diesel Fuel Sulfur Credit Transfer Report

ECA0300 Form: ECA Marine Fuel Sulfur Precision Demonstration

DSF0302 Form: Diesel Fuel Sulfur Facility Summary Report

DSF0401 Form: Diesel Fuel Sulfur Batch Report

DSF0504 Form: Designate & Track Handoff Report

DSF0601 Form: Designate & Track Total Volume Report

DSF0700 Form: Designate & Track Facility Compliance Calculation Report

DSE0700 Form: Designate & Track Entity Compliance Calculation Report

DSE0900 Form: Motor Vehicle Diesel Fuel Sulfur Pre-Compliance Report

DSF0951 Form: NRLM Diesel Fuel Sulfur Pre-Compliance Report

Respondents/affected entities: Parties involved with diesel fuels.

Respondent's obligation to respond: Mandatory.

Estimated number of respondents: 7,900 (total).

Frequency of response: On occasion.

Total estimated burden: 28,450 hours (per year). Burden is defined at 5 CFR 1320.03(b).

Total estimated cost: $3,300,200 (per year), includes $0 annualized capital or operation & maintenance costs.

Changes in Estimates: There is an increase of 17,372 hours in the total estimated respondent burden compared with the ICR currently approved by OMB. This increase is due to burdens that were not addressed in the current ICR, such as product transfer documents, the testing of each batch of diesel fuel for sulfur content, and labels on pumps that dispense hearing oil and certain offroad diesel fuels.

Courtney Kerwin,
Director, Regulatory Support Division.

[FR Doc. 2019-05513 Filed 3-21-19; 8:45 am]

BILLING CODE 6560-50-P